ENVIRONMENTAL PROTECTION AGENCY

[ER-FRL-9035-9]

Environmental Impact Statements; Notice of Availability

Responsible Agency: Office of Federal Activities, General Information (202) 564-7146 or http://www2.epa.gov/nepa/.

Weekly receipt of Environmental Impact Statements (EIS)

Filed 10/23/2017 Through 10/27/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170213, Final, FHWA, DE, US 113 North/South Study Millsboro-South Area, Contact: Ryan O'Donoghue (302) 734-2745

EIS No. 20170214, Draft, USAF, WA, KC-46A Main Operating Base #4 (MOB 4) Beddown, Comment Period Ends: 12/18/2017, Contact: Capt Matthew Smith (210) 925-3175

EIS No. 20170215, Final, FRA, TX, Texas-Oklahoma Passenger Rail Study Service-Level FEIS/ROD, Review Period Ends: 12/03/2017, Contact: Kevin Wright (202) 493-0845

EIS No. 20170216, Final, FEMA, NAT, National Flood Insurance Program Nationwide Programmatic Environmental Impact Statement, Review Period Ends: 12/03/2017, Contact: Bret Gates (202) 646-4133

EIS No. 20170217, Final, USACE, TX, Lower Bois d'Arc Creek Reservoir Fannin County Texas, Review Period Ends: 12/09/2017, Contact: Andrew Commer (918) 669-7400

EIS No. 20170218, Draft, NMFS, WA, 10 Salmon and Steelhead Hatchery Programs in the Duwamish-Green River Basin, Comment Period Ends: 12/20/2017, Contact: Steve Leider (360) 753-4650

Amended Notices

EIS No. 20170210, Final, USFS, WY, Upper Green River Area Rangeland Project, Review Period Ends: 12/11/2017, Contact: Dave Booth (307) 367-4326

Revision to FR Notice Published 10/27/2017; Correcting Lead Agency from USFWS to USFS.

Dated: October 31, 2017.
Kelly Knight,
Director, NEPA Compliance Division, Office of Federal Activities.

[FR Doc. 2017-23967 Filed 11-2-17; 8:45 am]

BILLING CODE 6560-50-P